NATIONAL SCIENCE FOUNDATION

Notice of the Availability of an Environmental Assessment

AGENCY: National Science Foundation.

ACTION: Notice of availability of a draft Environmental Assessment for proposed activities in the Arctic Ocean.

SUMMARY: The National Science Foundation gives notice of the availability of a draft Environmental Assessment for proposed activities in the Arctic Ocean.

The Office of Polar Programs (OPP) has prepared an Environmental Assessment of a marine geophysical survey by the Coast Guard cutter Healy across the Arctic Ocean, August-September 2005. Given the United States Arctic Program's mission to support polar research, the proposed action is expected to result in substantial benefits to science. The draft Environmental Assessment is available for public review for a 30-day period.

DATES: Comments must be submitted on or before May 11, 2005.

ADDRESSES: Copies of the draft Environmental Assessment are available upon request from: Dr. Polly A. Penhale, National Science Foundation, Office of Polar Programs, 4201 Wilson Blvd., Suite 755, Arlington, VA 22230. Telephone: (703) 292-8033.

SUPPLEMENTARY INFORMATION: The University of Alaska Fairbanks (UAF), with research funding from the National Science Foundation (NSF) and the Norwegian Petroleum Directorate (NPD), plans to conduct a multi-institution marine seismic survey across the Arctic Ocean from northern Alaska to Svalbard during the period 5 August to 30 September 2005 (approximately). This project will be operated in conjunction with a sediment coring project intended to collect paleoenvironmental and paleoceanographic evidence that will reveal information about the recent history of the Arctic Ocean and its climate during the last ten thousand years. The purpose of the seismic survey is to study the history of the ridges and basins of the Arctic Ocean.

Several species of cetaceans and pinnipeds inhabit the Arctic Ocean. The increased underwater noise from the research may result in avoidance behavior by some marine mammals and fish, and other forms of disturbance. An integral part of the planned survey is a monitoring and mitigation program to minimize impacts of the proposed activities on marine species present, and on fishing and subsistence activities, and to document the nature and extent of any effects. Injurious impacts to marine mammals have not been proven to occur near equipment proposed to be used in this research; however, the planned monitoring and mitigation measures would minimize the possibility of such effects should they otherwise occur.

With the planned monitoring and mitigation measures, unavoidable impacts to each of the species of marine mammal that might be encountered are expected to be limited to short-term localized changes in behavior and distribution near the seismic vessel. At most, such effects may be interpreted as falling within the Marine Mammal Protection Act (MMPA) definition of “Level B Harassment” for those species managed by NMFS. No long-term or significant effects are expected on individual marine mammals, or the populations to which they belong, or their habitats. The agency is currently consulting with both the National Marine Fisheries Service and the Fish & Wildlife Service regarding species within their respective jurisdictions potentially affected by this proposed activity.

Copies of the draft Environmental Assessment titled, An Environmental Assessment of a Marine Geophysical Survey by the Coast Guard Cutter Healy Across the Arctic Ocean, August-September 2005, are available upon request from: Dr. Polly A. Penhale, National Science Foundation, Office of Polar Programs, 4201 Wilson Blvd., Suite 755, Arlington, VA 22230. Telephone: (703) 292-8033 or at the agency's Web site at: http://www.nsf.gov/od/opp/arctic/arc_envir/healy_ea.pdf. The National Science Foundation invites interested members of the public to provide written comments on this draft Environmental Assessment.

Dr. Polly A. Penhale,
Environmental Officer, Office of Polar Programs, National Science Foundation.

[FR Doc. 05-7183 Filed 4-8-05; 8:45 am]

BILLING CODE 7555-01-M